DEPARTMENT OF TRANSPORTATION

Federal Motor Carrier Safety Administration

49 CFR Parts 390 and 396

[Docket No. FMCSA-98-3656]

RIN 2126-AA38

General Requirements; Inspection, Repair, and Maintenance; Intermodal Container Chassis and Trailers

AGENCY: Federal Motor Carrier Safety Administration (FMCSA), DOT.

ACTION: Notice of intent to consider negotiated rulemaking process.

SUMMARY: The FMCSA announces it is exploring the feasibility of conducting a negotiated rulemaking (Reg Neg) concerning maintenance of intermodal container chassis and trailers. The FMCSA has hired a convenor to speak to interested parties about the idea of a Reg Neg. The FMCSA anticipates that these interested parties may include driver organizations, motor carriers, ocean carriers, rail carriers, port authorities, chassis owners, safety advocacy groups, enforcement officials, and insurers.

DATES: Please submit your comments no later than January 13, 2003.

ADDRESSES: Please mail or hand deliver comments about this notice to the U.S. Department of Transportation, Dockets Management Facility, Room PL-401, 400 Seventh Street, SW., Washington, DC 20590; fax to the Docket Management Facility at 202-493-2251; or submit electronically at http://dms.dot.gov. Please include the docket number that appears in the heading of this document in your comments. You can copy or examine all comments received at the above street address from 9 a.m. to 5 p.m., e.t., Monday through Friday, except Federal holidays and on-line at http://dms.dot.gov. If you want notification of receipt of comments please include a self-addressed, stamped postcard.

FOR FURTHER INFORMATION CONTACT: Ms. Deborah M. Freund, Vehicle and Roadside Operations Division (MC-PSV), Office of Bus and Truck Standards and Operations, (202) 366-4009, Federal Motor Carrier Safety Administration, 400 Seventh Street, SW., Washington, DC 20590. Office hours are from 7:45 a.m. to 4:15 p.m., e.t., Monday through Friday, except Federal holidays.

SUPPLEMENTARY INFORMATION: On February 17, 1999, the FMCSA published an advance notice of proposed rulemaking (ANPRM) to ensure that it would consider all the pertinent issues that could impact any potential rulemaking changes for the maintenance of intermodal container chassis and trailers (64 FR 7849). The FMCSA took comments on the ANPRM and held three public meetings in 1999. The meetings were held in the States of Washington, Illinois, and New York. Docket FMCSA-98-3656 has 100 comments and 3 meeting transcripts in response to the ANPRM and public meetings.

The Regulatory Identification Number (RIN) for this action had been 2125-AE40 in February 1999 and is now 2126-AA38.

The FMCSA is now studying the feasibility of using the Reg Neg process for this proceeding. In a Reg Neg, an agency invites representatives of interested parties that are likely to be affected by a regulation to work with each other and the agency on a negotiating committee to develop a consensus draft of a proposed rule. The agency would then publish the proposal for public comment under customary regulatory procedures. The FMCSA believes cooperative problem solving should be given serious consideration. An agency must determine whether an appropriate advisory committee can be assembled that would fairly represent all affected interests and negotiate in good faith. The FMCSA has, therefore, retained a neutral convenor (Charles Pou, Jr.) to undertake the initial stage in the Reg Neg process. Mr. Pou's curriculum vitae has been placed in docket FMCSA-98-3656 for the public's convenience.

The neutral convenor will interview affected interests, including but not limited to, driver organizations, motor carriers, ocean carriers, rail carriers, port authorities, chassis owners, safety advocacy groups, enforcement officials, insurers, and others. The convenor will determine whether additional categories of interested parties may be necessary. The convenor will, among other things, examine the potential for adequate and balanced representation of these varied interests on an advisory committee that would be convened to negotiate the regulation. The convenor will then submit a written report of findings and recommendations to the agency. The convenor's report will provide a basis for the FMCSA to decide whether to proceed with Reg Neg, and, if so, to determine the scope of the issues the committee would be charged with addressing. In the alternative, the FMCSA may decide to proceed with traditional notice-and-comment rulemaking, or to discontinue the rulemaking.

All interested parties should know that the confidentiality provisions of the Administrative Dispute Resolution Act, 5 U.S.C. Section 574, will apply to the convenor's activities. The Federal Government will make no claim to the convenor's notes, memoranda, or recollections or to documents provided to the convenor in confidence in the course of the convening process.

The convenor will not interpret FMCSA or DOT policy on behalf of the FMCSA or DOT nor make decisions on items of policy, regulation, or statute. The convenor will not take a stand on the merits of substantive items under discussion.

The FMCSA will provide any comments it receives in reaction to this notice to the convenor and will file the comments in docket FMCSA-98-3656. If you want to submit comments to this notice directly to the docket, use the addresses above under the heading ADDRESSES.

Should the FMCSA decide to proceed with a Reg Neg process, the agency will follow the procedures set forth in the Negotiated Rulemaking Act of 1996, 5 U.S.C. 561 et seq. This would include the establishment of a negotiating committee under the Federal Advisory Committee Act (5 U.S.C. Appendix 2), and a Federal Register notice setting forth full particulars about the process and public participation.

Issued on: November 22, 2002.
Brian M. McLaughlin,
Associate Administrator for Policy and Program Development.

[FR Doc. 02-30102 Filed 11-27-02; 8:45 am]

BILLING CODE 4910-EX-P